DEPARTMENT OF THE INTERIOR

Bureau of Land Management

[LLCO956000 L14400000.BJ0000 16X]

Notice of Filing of Plats of Survey; Colorado

AGENCY: Bureau of Land Management, Interior.

ACTION: Notice of filing of plats of survey; Colorado

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on September 1, 2016.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat, in 2 sheets, and field notes of the dependent resurvey and survey in fractional Township 14 South, Range 98 West, Sixth Principal Meridian, Colorado, were accepted on June 30, 2016.

The plat and field notes of the dependent resurvey and survey in Township 15 South, Range 71 West, Sixth Principal Meridian, Colorado, were accepted on July 5, 2016.

The plat and field notes of the dependent resurvey in Township 2 North, Range 86 West, Sixth Principal Meridian, Colorado, were accepted on July 14, 2016.

The plat and field notes of the dependent resurvey and survey in Township 47 North, Range 1 West, New Mexico Principal Meridian, Colorado, were accepted on March 7, 2016.

The plat incorporating the field notes of the remonumentation of certain corners in Township 8 North, Range 71 West, Sixth Principal Meridian, Colorado, was accepted on July 21, 2016.

Dale E. Vinton,
Acting Chief Cadastral Surveyor for Colorado.

[FR Doc. 2016-18276 Filed 8-1-16; 8:45 am]

BILLING CODE 4310-JB-P